DEPARTMENT OF ENERGY

Federal Energy Regulatory Commission

[Docket No. RP00-249-000 and RP00-249-001]

Transwestern Pipeline Company; Notice of Technical Conference

June 8, 2000.

In the Commission's order issued on May 12, 2000,¹ the Commission directed that a technical conference be held to address issues raised by the filing.

¹ 91 FERC ¶61,125 (2000).

Take notice that the technical conference will be held on tuesday, June 27, 2000, at 10:00 a.m. to be designated at the offices of the Federal Energy Regulatory Commission, 888 First Street NE., Wasington, DC 20426.

All interested parties and Staff are permitted to attend.

David P. Boergers,
Secretary.

[FR Doc. 00-14925 Filed 6-13-00; 8:45 am]

BILLING CODE 6717-01-M